DEPARTMENT OF THE INTERIOR

Bureau of Indian Affairs

Collection of Water Delivery and Electric Service Data for the Operation of Irrigation and Power Projects and Systems: Comment Request

AGENCY: Bureau of Indian Affairs, Interior.

ACTION: Notice of Proposed Renewal of Information Collection.

SUMMARY: As required by the Paperwork Reduction Act, the Bureau of Indian Affairs (BIA) is seeking comments on two information collections that need renewal under the Paperwork Reduction Act. They are the Electrical Service Application, OMB Control Number 1076-0021, required by 25 CFR 175, and Water Request, OMB Control Number 1076-0141, required by 25 CFR 171.

DATES: Submit comments on or before July 20, 2009.

ADDRESSES: John Anevski, Chief, Division of Irrigation, Power and Safety of Dams, Office of Trust Services, Mail Stop 4655-MIB, 1849 C Street, NW., Washington, DC 20240, Facsimile: (202) 219-0006.

FOR FURTHER INFORMATION CONTACT: John Anevski, Chief, Division of Irrigation, Power and Safety of Dams, Office of Trust Services, Telephone: (202) 208-5480, E-mail: john.anevski@bia.gov.

SUPPLEMENTARY INFORMATION:

I. Abstract

The BIA owns, operates, and maintains three electric power utilities that provide a service to the end user. The BIA also owns, operates, and maintains 15 irrigation projects that provide a service to the end user. To be able to properly bill for the services provided, the BIA must collect customer information to identify the individual responsible for repaying the government the costs of delivering the service, and billing for those costs. Additional information necessary for providing the service is the location of the service delivery. The Debt Collection Improvement Act of 1996 (DCIA) requires that certain information be collected from individuals and businesses doing business with the government. This information includes the taxpayer identification number for possible future use to recover delinquent debt. To implement the DCIA requirement to collect customer information, the BIA has included a section concerning the collection of information in its regulations governing its electrical power utilities (25 CFR 175) and in its regulations governing its irrigation projects (25 CFR 171). This authority is provided by 25 U.S.C. 381 and 385.

The Paperwork Reduction Act of 1995 provides an opportunity for interested parties to comment on proposed information collection requests. The BIA Division of Irrigation, Power, and Safety of Dams is proceeding with this public comment period as the first step in obtaining a normal information collection clearance from the Office of Management and Budget (OMB). Each request contains (1) type of review, (2) title, (3) summary of the collection, (4) respondents, (5) frequency of collection, (6) reporting and record keeping requirements.

II. Request for Comments

The BIA requests your comments on this collection concerning: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 4655, during the hours of 8 a.m. to 4 p.m. EST, Monday through Friday, except for legal holidays. Please note that all comments received will be available for public review for two weeks after comment period closes. Before including your address, phone number, e-mail address or other personally identifiable information, be advised that your entire comment—including your personally identifiable information—may be made public at any time. While you may request that we withhold your personally identifiable information, we cannot guarantee that we will be able to do so. We do not consider anonymous comments. All comments from representatives of businesses or organizations will be made public in their entirety. We may withhold comments from review for other reasons.

III. Data

A. Electric Service Application

OMB Control Number: 1076-0021.

Type of review: Renewal.

Title: Electrical Service Application (25 CFR 175).

Brief Description of Collection: In order for electric power consumers to be served, information is needed by the BIA to operate and maintain its electric power utilities and fulfill reporting requirements. Section 175.22 of 25 CFR part 175, Indian electric power utilities, specifies the information collection requirement. Power consumers must apply for electric service. The information to be collected includes: name; electric service location; and other operational information identified in the local administrative manuals. Collection of this information is currently authorized under an approval by OMB (OMB Control Number 1076-0021). All information is collected from each electric power consumer. Users are not required to maintain records but may do so for business purposes. The information they submit is for the purpose of obtaining or retaining a benefit, namely electric power. While we do require personal information for the purpose of adhering to the controlling laws and regulations, we protect the information under the Privacy Act. Annual reporting and record keeping burden for this collection of information is estimated to average 30 minutes for each response for 3,000 respondents, including the time for reviewing instructions, searching existing data sources, gathering and maintaining the data needed, and completing and reviewing the collection of information. Thus, the total annual reporting and record keeping burden for this collection is estimated to be 1,500 hours.

Respondents: BIA Electric Power Consumers—individuals and businesses.

Number of Respondents: 3,000 per year.

Estimated Time per Response: ½ hour.

Frequency of Response: The information is collected once, unless the respondent requests new electrical service elsewhere or if it has been disconnected for failure to pay their electric bill.

Total Annual Burden to Respondents: 1,500 hours.

B. Water Requests

OMB Control Number: 1076-0141.

Type of review: Renewal.

Title: Water Request (25 CFR 171).

Brief Description of Collection: In order for irrigators to receive water deliveries, information is needed by the BIA to operate and maintain its irrigation projects and fulfill reporting requirements. Section 171.140 of 25 CFR part 171, [Irrigation] Operation and Maintenance, specifies the information collection requirement. Water users must apply for water delivery. The information to be collected includes: name; water delivery location; time and date of requested water delivery; duration of water delivery; rate of water flow; number of acres irrigated; crop statistics; and other operational information identified in the local administrative manuals. Collection of this information is currently authorized under an approval by OMB (OMB Control Number 1076-0141). The respondents mainly request water be turned on or turned off. Users are not required to maintain records but may do so for business purposes. The information they submit is for the purpose of obtaining or retaining a benefit, namely irrigation water. While we do require personal information for the purpose of adhering to the controlling laws and regulations, we protect the information under the Privacy Act. All information is collected from each respondent with a response required each time irrigation water is provided (we estimate 2 times each year). We estimate that we service 8,165 users who submit information about 2 times each year for a total of 16,330 responses a year. We estimate that it takes respondents approximately 1 hour per response, resulting in a total annual hourly burden of 16,330.

Respondents: Water users of the BIA irrigation project, which can include individuals and businesses.

Number of Respondents: 8,165.

Estimated Time per Response: 1 hour.

Frequency of Response: On occasion throughout the irrigation season, approximately 2 times per year.

Total Annual Burden to Respondents: 16,330 hours.

Dated: May 13, 2009.
Alvin Foster,
Deputy Chief Information Officer—Indian Affairs.

[FR Doc. E9-11559 Filed 5-18-09; 8:45 am]

BILLING CODE 4310-W7-P